DEPARTMENT OF HOMELAND SECURITY

Coast Guard

[Docket No. USCG-2015-0961]

Recreational Boating Safety—2016 Nonprofit Organization Grants

AGENCY: Coast Guard, DHS.

ACTION: Notice of availability and request for comments.

SUMMARY: The Coast Guard requests public comments on whether it should modify or move forward with its tentative list of topics on which it would invite applications for Fiscal Year 2016 grants to nonprofit organizations. These grants are intended to promote recreational boating safety.

DATES: Comments must be submitted to the online docket via http://www.regulations.gov, or reach the Docket Management Facility, on or before 30 days after date of publication in the Federal Register.

ADDRESSES: You may submit comments identified by docket number USCG-2014-0911 using the Federal eRulemaking Portal at http://www.regulations.gov. See the “Public Participation and Request for Comments” portion of the SUPPLEMENTARY INFORMATION section for further instructions on submitting comments.

FOR FURTHER INFORMATION CONTACT: For information about this document call or email Carlin Hertz, Nonprofit Grants Coordinator; 202-372-1060, carlin.r.hertz@uscg.mil.

SUPPLEMENTARY INFORMATION:

Public Participation and Comments

We encourage you to submit comments or related material on this notice, and we may modify our tentative list of topics for Fiscal Year 2016 accordingly. The Coast Guard does not anticipate another FR Notice to discuss any of the comments received but your input will be considered in the development of the 2016 Nonprofit Organization Grants. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Discussion

Chapter 131 of Title 46, U.S. Code, requires the Secretary of Homeland Security to maintain a national recreational boating safety program, and gives the Secretary certain regulatory authority to implement that program. The Secretary has delegated that authority to the Coast Guard.¹ Chapter 131 mandates annual allocations of funds to State boating safety programs, and allows the Coast Guard to allocate up to 5% of the total amount of those funds to the national boating safety programs undertaken by national nonprofit public service organizations.² These allocations are made pursuant to statutory guidelines that prescribe the purposes for which allocated funds may be used.³ The Coast Guard annually evaluates the statutory guidelines to determine how they can best be met in the coming fiscal year.

¹ DHS Delegation No. 0170.1(II)(92.i).

² 46 U.S.C. 13104(c).

³ 46 U.S.C. 13107(b).

For Fiscal Year 2016, the Coast Guard has tentatively determined that it will invite national nonprofit public service organizations to apply for grant allocations in the following “areas of interest” we have identified as well as other topics.

1. Conduct Elements of a Year-Round Safe Boating Campaign. This area of interest would conduct national campaigns throughout the year that are coordinated with other safety initiatives and media events, and would—

• Align with the National Recreational Boating Safety Strategic Plan, particularly Objective 2: Boating Safety Outreach;

• Target specific boating safety topics and specific boater market segments;

• Reach boaters at the local level;

• Educate boaters about the consequences of drinking alcohol, taking drugs, or other irresponsible behavior on the water;

• Educate boaters about reporting boating accidents;

• Stress the importance of wearing life jackets;

• Educate boaters on the “New Life Jacket Standards,” as published by the Coast Guard;

• Educate boaters on propeller strike dangers and avoidance, particularly emphasizing the use of engine cut-off switch (lanyards and electronic devices);

• Stress the importance of boater safety training; and

• Emphasize that boat operators are responsible for their own safety and that of their passengers.

2. Outreach and Awareness Conference. This area of interest would use a single national conference to focus on the topics discussed under the first area of interest, in support of the National Recreational Boating Safety Strategic Plan's Objective 2—Boating Safety Outreach. Conference organizers must focus on professional development opportunities for conference participants while making every effort to ensure affordability to gain maximum attendance. The conference must provide opportunities for grant recipients, as appropriate, to present results of completed grant projects and on plans for using new Coast Guard grants. Three to six months after the conference, the organizers must survey participants on the long term impacts of the conference and include survey results in their final report.

3. Standardize Statutes and Regulations. This area of interest would foster measurable standardization and reciprocity among State boating safety statutes and regulations and how they are administered and enforced, especially with respect to accident reporting, boater education, and life jacket wear requirements. Hands-on coordination of state efforts and the establishment of cooperative environments where state officials can discuss issues regarding this topic are encouraged. This standardization should be compatible with other State boating safety efforts and promote RBS program effectiveness, the use of Coast Guard-recognized boater education programs, and improved administration of Coast Guard-approved vessel numbering and accident reporting systems. A further desired outcome of this area of interest is an updated comprehensive guide to State recreational boating safety laws and regulations.

4. Accident Investigations Seminars. This area of interest would develop Coast Guard-approved curriculum and materials for seminars for Federal and State recreational boating accident investigators in support of the National Recreational Boating Safety Strategic Plan's Objective 9—Boating Accident Reporting. The curriculum must cover the requirements of 46 U.S.C. 6102 and 33 CFR parts 173 subpart C, part 174 subparts C & D (in particular the accident-reporting system administration requirements of 33 CFR 174.103), and part 179. Between four and eight 60 student regional seminars are desired, as well as between two and four advanced courses at an appropriate location designed to garner maximum participation at the lowest cost. Three 20-student regional train-the-trainer seminars would also be required with seminar locations agreed to with the Coast Guard. Each seminar would reserve at least four places for Coast Guard marine investigators to be assigned by the Coast Guard. Each regional seminar must cover an overview of recreational boat accident investigations, witness interviews, collision dynamics, evidence collection and preservation, diagramming, and report writing with an emphasis on adherence to definitions and detail in the accident narrative, with particular focus on human factor causal elements. The advanced seminars must include instruction in the investigation of video-simulated accidents with actual recreational boats used as training aids.

5. Life Jacket Wear Rate Study. This area of interest would provide alternatives to achieving reliable estimates of nationwide recreational boater life jacket wear rates. This estimate will directly address the National Recreational Boating Safety Strategic Plan's Strategy 4.1—Track and Evaluate Life Jacket Wear Rates. Plans presented should lay out the advantages and disadvantages and projected costs of an annual, biannual, and every three years study. Plans can include the use of paid or volunteer observers, and must be based on actual observation of a representative sample of boaters on high-use lakes, rivers, and bays, ideally conducted in different locations at different times of the year to accurately capture the impact of the seasonal nature of boating. Methods for developing estimates must be replicable and must be able to collect data by number, type, length, operation, and activity of boats and by boater age and gender.

6. Voluntary Manufacturing Standards Development. This area of interest would develop and carry out a program to promote the formulation of technically sound voluntary standards for building recreational boats and associated equipment such as electronics. Development of these standards will address the National Recreational Boating Safety Strategic Plan's Strategy 7.3—Manufacturer Outreach. The standards must help reduce accidents in which stability, speed, operator inattention, and navigation lights are factors. For example, standards could be developed for labeling flying-bridge capacity or horsepower rating, or for minimizing operator distraction, or for determining the effects of underwater or decorative lighting.

7. Targeted Boating Safety Knowledge and Skills Awareness Training. This area of interest would build a sustainable network of training providers to target traditionally underrepresented groups in boating. The program should have structured, engaging, in-depth opportunities for learning basic boating safety and for practicing on-the-water boating safety skill. The curriculum used must be based on appropriate elements of the national skills standards being promulgated through the ANSI (or other comparable) process and available currently in draft form, and must compliment the national knowledge standards. This effort must support Objectives 2 and 3 of the National Recreational Boating Safety Program Strategic Plan—Boating Safety Outreach and Advanced and/or On the Water, Skills Based Boating Education.

8. “Boating Under the Influence” (BUI) Detection and Enforcement Courses. This area of interest would develop and conduct train-the-trainer and BUI detection and enforcement training courses for State and local marine patrol officers, Coast Guard boarding officers, and others. The goal of the training would be to give students the knowledge and skills they need to deter recreational boater alcohol use and alcohol-related accidents.

Additionally, the area of interest would support the execution of a focused national outreach effort to highlight the dangers of BUI through education and enforcement. This outreach effort would be targeted to run during a specified time frame during a time of high boating participation to achieve maximum exposure. These courses and outreach actions will directly address National Recreational Boating Safety Strategic Plan Strategy 6.2, Train marine law enforcement officers in Boating Under the Influence and Strategy 6.3, Expand nationwide use of the validated Standardized Field Sobriety Tests (SFST).

9. Media “toolbox”. This area of interest would develop a “toolbox” of methods and strategies to assist entities in carrying out media and other awareness campaigns related to pertinent boating safety messaging including, but not limited to, Boating Under the Influence (BUI), life jacket wear, accident reporting, and boating safety education. Any “toolbox” developed should include the use of social media and other innovative techniques to be used in a prevention campaign and should build on currently available boating safety messaging. This initiative directly supports Objective 2: Boating Safety Outreach.

This notice is issued under authority of 5 U.S.C. 552(a).

Dated: November 4, 2015.
Verne B. Gifford,
Captain, Coast Guard, Director of Inspections and Compliance.

[FR Doc. 2015-29139 Filed 11-10-15; 4:15 pm]

BILLING CODE 9110-04-P